DEPARTMENT OF DEFENSE

Office of the Secretary

Defense Health Board (DHB) Meeting

AGENCY: Department of Defense (DoD).

ACTION: Notice of meeting.

SUMMARY: Pursuant to the Federal Advisory Committee Act of 1972 (5 U.S.C., Appendix as amended), the Sunshine in the Government Act of 1976 (5 U.S.C. 552b, as amended), and 41 CFR102-3.150, and in accordance with section 10(a)(2) of Public Law, the following meeting of the Defense Health Board is announced:

DATES: November 20, 2008 (9 a.m.-12 p.m. EST (Open Session)).

ADDRESSES: Sheraton Crystal City, 1800 Jefferson Davis Highway, Arlington, VA 22202.

FOR FURTHER INFORMATION CONTACT: Colonel Roger L. Gibson, Executive Secretary, Defense Health Board, Five Skyline Place, 5111 Leesburg Pike, Suite 810, Falls Church, Virginia 22041-3206, (703) 681-8448, EXT. 1228, Fax: (703) 681-3317, roger.gibson@ha.osd.mil. Additional information, agenda updates, and meeting registration are available online at the Defense Health Board Web site, http://www.ha.osd.mil/dhb. The public is encouraged to register for the meeting. If special accommodations are required to attend (sign language, wheelchair accessibility) please contact Ms. Lisa Jarrett at (703) 681-8448 ext. 1280 by November 12, 2008. Written statements may be mailed to the above address, e-mailed to dhb@ha.osd.mil or faxed to (703) 681-3317.

SUPPLEMENTARY INFORMATION: Purpose of the Meeting: The purpose of the meeting is to address pending issues before the Board and deliberate in open session the status of reports by subcommittees.

Agenda: On November 20, 2008 the Board will receive updates and deliberate upon the findings from the following Defense Health Board (DHB) subcommittees: Military Occupational & Environmental Health and Medical Surviellance Subcommitee, the DHB Review Panel for the Establishment of the Joint Pathology Center, DHB Review Panel on the Department of Defense Biological Defense Research Program, and the National Capital Region Base Realignment And Closure (NCR BRAC) Advisory Panel.

Pursuant to 5 U.S.C. 552b, as amended, and 41 CFR 102-3.140 through 102-3.165 the Defense Health Board invites members of the public to attend the meeting from 9 a.m. to 12 Noon Eastern Standard Time on November 20, 2008. As an alternative to being present at this meeting, the public may access the DHB Web site to view the slides presented in real time at this location: http://www.health.mil/dhb/default.cfm and listen to the audio by dialing the following toll-free phone number: 1-877-771-5191.

Any member of the public wishing to provide input to the Defense Health Board may submit a written statement in accordance with 41 CFR 102-3.140(C) and section 10(a)(3) of the Federal Advisory Committee Act, and the procedures described in this notice. Written statement should not be longer than two type-written pages and must address the following detail: The issue, discussion, and a recommended course of action. Supporting documentation may also be included as needed to establish the appropriate historical context and to provide any necessary background information.

Individuals desiring to submit a written statement may do so through the Board's Designated Federal Officer at the address detailed above at any point. However, if the written statement is not received at least 10 calendar days prior to the meeting, which is subject to this notice, then it may not be provided to or considered by the Defense Health Board until the next open meeting.

The Designated Federal Officer will review all timely submissions with the Defense Health Board Chairperson, and ensure they are provided to members of the Defense Health Board before the meeting that is subject to this notice. After reviewing the written comments, the Chairperson and the Designated Federal Officer may choose to invite the submitter of the comments to orally present their issue during an open portion of this meeting or at a future meeting.

The Designated Federal Officer, in consultation with the Defense Health Board Chairperson, may, if desired, allot a specific amount of time for members of the public to present their issues for review and discussion by the Defense Health Board.

Dated: November 3, 2008.
Patricia L. Toppings,
OSD Federal Register Liaison Officer, Department of Defense.

[FR Doc. E8-26712 Filed 11-7-08; 8:45 am]

BILLING CODE 5001-06-P